DEPARTMENT OF ENERGY

Federal Energy Regulatory Commission

18 CFR Chapter I

[Docket No. RM01-5-000]

Electronic Tariff Filings

March 23, 2001.

AGENCY: Federal Energy Regulatory Commission.

ACTION: Notice of informational conference.

SUMMARY: In its order issued on March 14, 2001, 66 FR 15673 (March 20, 2001), the Federal Energy Regulatory Commission directed its staff to convene an informational conference with interested members of the public and industry in order to discuss issues related to the electronic filing of electric, gas, and oil tariffs, to demonstrate the use of its current electronic natural gas tariff system (FASTR) and to discuss the possibility of using an Extensible Markup Language (XML) tagged format. The informational conference will also provide a venue for questions, comments, and clarifications regarding the matters raised in the March 14, 2001 order.

DATES: The conference will be held April 24, 2001. Those interested in making presentations should indicate their interest by April 6, 2001 by a letter addressed to the Secretary, Federal Energy Regulatory Commission.

ADDRESSES: Federal Energy Regulatory Commission, 888 First Street, NE., Washington, DC 20426.

FOR FURTHER INFORMATION CONTACT: Barbara Bourque, Technology and Data Group Manager, Office of Markets, Tariffs, and Rates, Federal Energy Regulatory Commission, 888 First Street, NE., Washington, DC 20426, (202) 208-2338.

SUPPLEMENTARY INFORMATION:

Notice of Informational Conference

Take notice that on April 24, 2001, the Staff of the Federal Energy Regulatory Commission will hold a public conference, as directed by the Commission in its Notice of Inquiry (NOI), issued March 14, 2001, in the above captioned proceeding. The conference will begin at 9:30 a.m. at the Commission's offices, 888 First Street, NE., Washington, DC. All interested persons are invited to attend.

As stated in the NOI, the purpose of the conference is for the Staff to discuss issues related to the electronic filing of electric, gas, and oil tariffs, to demonstrate the use of its current electronic natural gas tariff system (FASTR) and to discuss the possibility of using an Extensible Markup Language (XML) tagged format. The Staff will also discuss the limitations of a paper based tariff system, the goals for a FERC electronic tariff system, and related operational and implementation issues. The conference will also provide a venue for questions, comments, and clarifications regarding the matters raised in the NOI.

The Commission is inviting interested persons to make short presentations on the topics discussed in the NOI. Such presentations should focus on either providing possible solutions, or on highlighting potential problems. Persons interested in making presentations should indicate their interest by April 6, 2001, by a letter addressed to the Secretary, Federal Energy Regulatory Commission, 888 First Street, NE., Washington, DC 20426, and should refer to Docket No. RM01-5-000. Each request to participate must include a contact person, telephone number and e-mail address. The request to make a presentation should indicate what topics the presentation will cover. Those with common interests are encouraged to choose a single spokesperson to represent their interests.

After receipt of the requests, a subsequent notice will be issued setting forth the conference format. Depending on the number of presentations, it may be necessary for presenters to meet with Staff prior to the conference or through conference calls to coordinate the presentations.

The Capitol Connection offers all Open and special FERC meetings live over the Internet as well as via telephone and satellite. For a reasonable fee, you can receive these meetings in your office, at home or anywhere in the world. To find out more about The Capitol Connection's live Internet, phone bridge or satellite coverage, contact David Reininger or Julia Morelli at (703) 993-3100 or visit the website (www.capitolconnection.gmu.edu). The Capitol Connection also offers FERC Open Meetings through its Washington, DC area television service.

Additionally, live and archived audio of FERC public meetings are available for a fee via National Narrowcast Network's Hearings.com(sm) and Hearings-On-The-Line(r) Services. Live audio is available by telephone and on the Web at www.Hearings.com. The Web audio will be archived and available for listening on demand after the event is completed. Billing is based on listening time. Call (202) 966-2211 for further details.

Questions about the conference should be directed to: Barbara Bourque, Technology and Data Group Manager, Office of Markets, Tariffs and Rates, 888 First Street, NE., Washington, DC 20426, 202-208-2338; e-mail barbara.bourque@ferc.fed.us.

Linwood A. Watson, Jr.,
Acting Secretary.

[FR Doc. 01-7720 Filed 3-28-01; 8:45 am]

BILLING CODE 6717-01-U